DEPARTMENT OF AGRICULTURE

Agricultural Marketing Service

7 CFR Part 1222

[Document No. AMS-SC-19-0110]

Paper and Paper-Based Packaging Promotion, Research and Information Order; Continuance Referendum

AGENCY: Agricultural Marketing Service, USDA.

ACTION: Notification of referendum order.

SUMMARY: This document directs that a referendum be conducted among eligible domestic manufacturers and importers of paper and paper-based packaging to determine whether they favor continuance of the Agricultural Marketing Service's (AMS) regulations regarding a national paper and paper-based packaging research and promotion program.

DATES: This referendum will be conducted by express mail and electronic ballot from October 12, 2020, through October 23, 2020. Persons who domestically manufactured and imported 100,000 short tons or more of paper and paper-based packaging during the representative period from January 1 through December 31, 2019, are eligible to vote in the referendum. Ballots delivered to AMS via express mail or email must show proof of delivery by no later than 11:59 p.m. Eastern Time (ET) on October 23, 2020.

ADDRESSES: Copies of the Paper and Paper-Based Packaging Promotion, Research, and Information Order may be obtained from: Referendum Agent, Promotion and Economics Division (PED), Specialty Crops Program (SCP), AMS, USDA, 1400 Independence Avenue SW, Room 1406-S, Stop 0244, Washington, DC 20250-0244, telephone: (202) 720-9915; facsimile: (202) 205-2800.

FOR FURTHER INFORMATION CONTACT: Stacy Jones King, Marketing Specialist, Promotion and Economics Division, Specialty Crops Program, AMS, USDA, 1400 Independence Avenue SW, Room 1406-S, Stop 0244, Washington, DC 20250-0244; Stacy Jones King at (202) 720-4140 or via electronic mail: Stacy.JonesKing@usda.gov.

SUPPLEMENTARY INFORMATION: Pursuant to the Commodity Promotion, Research, and Information Act of 1996 (7 U.S.C. 7411-7425) (1996 Act), it is hereby directed that a referendum be conducted to ascertain whether continuance of the Paper and Paper-Based packaging Research, Promotion, Consumer Education and Industry Information Order (7 CFR part 1222) is favored by eligible domestic manufacturers and importers of paper and paper-based packaging. The program is authorized under the 1996 Act.

The representative period for establishing voter eligibility for the referendum shall be the period from January 1 through December 31, 2019. Persons who domestically manufactured and imported 100,000 short tons or more of paper and paper-based packaging during the representative period are eligible to vote in the referendum. Persons who received an exemption from assessments pursuant to § 1222.53 for the entire representative period are ineligible to vote. The Department will provide the option for electronic balloting. The referendum will be conducted by express mail and electronic ballot from October 12 through October 23, 2020. Further details will be provided in the ballot instructions.

The program took effect in 2013. Section 518 of the 1996 Act (7 U.S.C. 7417) authorizes continuance referenda. Under § 1222.81(b) of the Order, the U.S. Department of Agriculture (USDA) must conduct a referendum no later than seven years after the program became effective and every seven years thereafter or when 10 percent or more of persons eligible to vote petition the Secretary of Agriculture to hold a referendum to determine if persons subject to assessment favor continuance of the program. USDA would continue the program if continuance is favored by a majority of domestic manufacturers and importers of paper and paper-based packaging voting in the referendum who also represent a majority of the volume of paper and paper-based packaging represented in the referendum.

In accordance with the Paperwork Reduction Act of 1995 (44 U.S.C. chapter 35), the referendum ballot has been approved by the Office of Management and Budget (OMB) and assigned OMB No. 0581-0093. It has been estimated that approximately 40 entities will be eligible to vote in the referendum. It will take an average of 15 minutes for each voter to read the voting instructions and complete the referendum ballot.

Referendum Order

Stacy Jones King, Agricultural Marketing Specialist, and Heather Pichelman, Director, Promotion and Economics Division, Specialty Crops Program, AMS, USDA, Stop 0244, Room 1406-S, 1400 Independence Avenue SW, Washington, DC 20250-0244, are designated as the referendum agents to conduct this referendum. The referendum procedures at 7 CFR 1222.100 through 1222.108, which were issued pursuant to the 1996 Act, shall be used to conduct the referendum.

The referendum agents will express mail or email the ballots to be cast in the referendum and voting instructions to all known, eligible domestic manufacturers and importers prior to the first day of the voting period. Persons who domestically manufactured and imported 100,000 short tons or more of paper and paper-based packaging during the representative period are eligible to vote. Persons who received an exemption from assessments pursuant to § 1222.53 during the entire representative period are ineligible to vote. Any eligible domestic manufacturer or importer who does not receive a ballot should contact a referendum agent no later than one week before the end of the voting period. Ballots delivered via express mail or email must show proof of delivery by no later than 11:59 p.m. Eastern Time (ET) on October 23, 2020.

List of Subjects in 7 CFR Part 1222

Administrative practice and procedure, Advertising, Consumer information, Marketing agreements, Promotion, Reporting and recordkeeping requirements, Paper and Paper-based Packaging.

Authority: 7 U.S.C. 7411-7425; 7 U.S.C. 7401.

Bruce Summers,
Administrator, Agricultural Marketing Service.

[FR Doc. 2020-17547 Filed 9-2-20; 8:45 am]

BILLING CODE 3410-02-P